DEPARTMENT OF THE INTERIOR

Fish and Wildlife Service

Notice of Public Workshops for the Draft Conservation Strategy for the Tahoe Yellow Cress (Rorippa subumbellata Roll.)

AGENCY: Fish and Wildlife Service, Interior.

ACTION: Notice of public workshops.

SUMMARY: We, the U.S. Fish and Wildlife Service (Service), announce that public workshops will be held to introduce the Draft Conservation Strategy for the Tahoe Yellow Cress (Rorippa subumbellata Roll.), a candidate species for listing.

DATES: Four public workshops will be held. Two workshops will take place on July 23, 2002, from 2 to 4 p.m. and 5 to 7 p.m.; and two on July 25, 2002, from 2 to 4 p.m. and 5 to 7 p.m.

ADDRESSES: The public workshops on July 23, 2002, will be held at the El Dorado Public Library in the City of South Lake Tahoe, California, and the workshops on July 25, 2002, will be held at the North Tahoe Conference Center in Kings Beach, California. The Draft Conservation Strategy is available for review on the Tahoe Regional Planning Agency's Web site at http://www.trpa.org/tyc/Draft_strategy.html, or hard copies may be requested by writing to the Field Supervisor, U.S. Fish and Wildlife Service, Nevada Fish and Wildlife Office, 1340 Financial Boulevard, Suite 234, Reno, Nevada, 89502. Written comments will be accepted at the workshops or may be sent to the Field Supervisor. You may also send comments by electronic mail (e-mail) to fw1tyc@r1.fws.gov. Please submit comments in ASCII file format and avoid the use of special characters and encryption. Please include “Attn: Tahoe yellow cress” and your name and return address in your e-mail message. If you do not receive a confirmation from the system that we have received your e-mail message, contact us directly by calling our Nevada Fish and Wildlife Office at telephone number 775-861-6300.

FOR FURTHER INFORMATION CONTACT: Jody Fraser, Nevada Fish and Wildlife Office, at the above address and telephone; (facsimile 775-861-6301).

SUPPLEMENTARY INFORMATION:

Background

Tahoe yellow cress (Rorippa subumbellata Roll.), a member of the mustard family (Brassicaceae), is restricted to the shores of Lake Tahoe in California and Nevada. This species is a small perennial herb with somewhat fleshy stems and leaves and small yellow flowers. It is primarily found growing in coarse to medium sand, near the mouths of streams or in back-beach depressions around the shore of the lake.

Because of its limited distribution and threats facing the species (see discussion below), a Draft Conservation Strategy has been developed to promote the cooperative protection and management of Tahoe yellow cress and its habitat. The public workshops are being held to provide a brief overview of the Conservation Strategy, introduce the objectives of this cooperative effort, and encourage public involvement.

The distribution and habitat of Tahoe yellow cress are limited. The majority of sites supporting this species are found on the west and south shores in California where appropriate habitat is relatively common. There is limited suitable habitat on the east shore in Nevada, which is largely dominated by boulders and rocky cliffs. It grows almost exclusively between the elevations of 1,898 m (6,223 ft) and 1,900 m (6,230 ft). During years with high lake levels, most of the available habitat is inundated, but the plant has been observed to recolonize newly-exposed beaches after being inundated between 2 to 4 years (Josselyn et al. 1992).

Surveys for Tahoe yellow cress have been conducted throughout the Lake Tahoe region since 1979. Historically, a total of 51 occurrences of this taxon have been documented from around the lakeshore; however, the plant has never been observed at all sites at any one time. Survey results through the year 2000 showed that Tahoe yellow cress occupied only 27 percent of the known, historic sites. Evidence suggests the decline in the number of sites occupied by Tahoe yellow cress is primarily due to: (1) Alterations in lake level dynamics caused by construction and operation of the Truckee River outlet dam and reservoir; (2) destruction of known and potentially suitable habitat by the construction of piers, jetties, and other structures; (3) high levels of recreational activity associated with beaches; (4) disturbance of habitat by public and private property maintenance activities; and (5) possibly stochastic environmental events. While we recognize that this species is apparently adapted to a highly dynamic environment, human-induced factors caused us to evaluate the status of the species and ultimately designate it as a candidate for listing.

On February 28, 1996, we published in the Federal Register (61 FR 7595) a Notice of Review of plant and animal taxa that are candidates for listing as endangered or threatened. This combined notice also presented revised candidate lists which eliminated the separation of species into three categories. The former system led many people to the mistaken conclusion that the addition of thousands of species to the endangered list was imminent. Under the revised list, only category 1 candidate species for which there was enough information to support a listing proposal would be considered “candidates.” In the February 28, 1996, Notice of Review, we removed Tahoe yellow cress from the candidate list because the available information did not support issuance of a proposed listing. Following an updated assessment of the status of Tahoe yellow cress and its increasing vulnerability to threats, we included this taxon as a candidate species in the Notice of Review published in the Federal Register on October 25, 1999 (64 FR 57533).

Tahoe yellow cress has been documented on lands administered by the United States Forest Service (USFS), Lake Tahoe Basin Management Unit (LTBMU), the State of California Department of Parks and Recreation (CDPR), the State of Nevada Division of State Parks (NDSP), Placer and El Dorado county lands, City of South Lake Tahoe lands, and on private lands.

Activities within the Lake Tahoe shorezone, on both public and private lands, are regulated under various agency policies and management directions, many of which include provisions for protection of this species. However, despite these protective mechanisms, current protection is not adequate. Because of the imminent threats facing the species, a task force has been formed to develop and implement a conservation strategy for Tahoe yellow cress. The strategy is coupled with a Memorandum of Understanding/conservation agreement (MOU/CA) that will be signed by the current participants to demonstrate their long-term commitment to protection of the species. Parties who wish to take a more active role in conservation of this species may be added to the MOU/CA in the future. Implementation of this strategy is a cooperative effort being carried out under the auspices of a multi-agency and private interest group task force. Success of this strategy is largely dependent upon voluntary participation and coordination among parties.

Public Meeting

Public workshops to introduce the Draft Conservation Strategy for Tahoe yellow cress are scheduled to be held on July 23, 2002, from 2 to 4 p.m. and 5 to 7 p.m. at the El Dorado Public Library in the City of South Lake Tahoe, California, and on July 25, 2002, from 2 to 4 p.m. and 5 to 7 p.m. at the North Tahoe Conference Center in Kings Beach, California. Please contact the Nevada Fish and Wildlife Office at the above address with any questions concerning these public workshops.

Public Comments

We will accept comments on the Draft Conservation Strategy through August 8, 2002. Prepared comments will also be accepted at the public workshops. Written comments should be submitted to the Field Supervisor of the Nevada Fish and Wildlife Office in the ADDRESSES section.

Dated: July 9, 2002.
Miel R. Corbett,
Acting Deputy Manager, California/Nevada Operations Office, Region 1.

[FR Doc. 02-17886 Filed 7-15-02; 8:45 am]

BILLING CODE 4310-55-P